DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 USC 1531 et seq.). The U.S. Fish and Wildlife Service (“we”) solicits review and comment from local, State, and Federal agencies, and the public on the following permit requests.

DATES: Comments on these permit applications must be received on or before November 10, 2003 to receive our consideration.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-075898

Applicant: Sue Orloff, San Rafael, California.

The applicant requests a permit to take (harass by survey, capture, handle, and release) the Sonoma County distinct population segment of the California tiger salamander (Ambystoma californiense) in conjunction with surveys in Sonoma County, California, for the purpose of enhancing its survival.

Permit No. TE-076322

Applicant: Kimberly Toal, La Crescenta, California.

The applicant requests a permit to take (capture, handle, and release) the Stephen's kangaroo rat (Dipodomys stephensii) in conjunction with surveys in Riverside, San Bernardino, and San Diego Counties, California, for the purpose of enhancing its survival.

Permit No. TE-076257

Applicant: San Luis Obispo Public Works Department, San Luis Obispo, California.

The applicant requests a permit to take (harass by survey) the Morro shoulderband snail (Helminthoglypta walkeriana) in conjunction with surveys throughout the range of the species in California for the purpose of enhancing its survival.

Permit No. TE-076768

Applicant: Lisa Schicker, Los Osos, California.

The applicant requests a permit to take (harass by survey) the Morro shoulderband snail (Helminthoglypta walkeriana) in conjunction with surveys throughout the range of the species in California for the purpose of enhancing its survival.

Permit No. TE-003483

Applicant: U.S. Geological Survey, Biological Resources Division, Hawaii National Park, Hawaii.

The permittee requests an amendment to take (translocate) the Laysan duck (Anas laysanensis) in conjunction with translocation activities and scientific research from Laysan to Midway Atoll, Hawaiian Islands, for the purpose of enhancing its survival.

Permit No. TE-006333

Applicant: Oregon State University, Department of Fish and Wildlife, Corvallis, Oregon.

The permittee requests an amendment to take (collect larvae) the Borax Lake chub (Gila boraxobius) in conjunction with research in Harney County, Oregon, for the purpose of enhancing its survival.

Permit No. TE-077053

Applicant: Jeffrey Manning, Fallbrook, California.

The applicant requests a permit to take (harass by survey) the southwestern willow flycatcher (Empidonax trailii extimus) in conjunction with surveys in Los Angeles, Orange, Riverside, San Diego, San Bernardino, and Imperial Counties, California, for the purpose of enhancing its survival.

Permit No. TE-050450

Applicant: Lisa Allen, Dana Point, California.

The permittee requests an amendment to take (harass by survey and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-074658

Applicant: Cecilia Meyer Lovell, San Diego, California.

The applicant requests a permit to take (harass by survey and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-077388

Applicant: Oregon Zoo, Portland, Oregon.

The applicant requests a permit to take (captive breed) the California condor (Gymnogyps californianus) in conjunction with a recovery program for the species in Multnomah County, Oregon, for the purpose of enhancing its survival.

Permit No. TE-077392

Applicant: Peter Waldburger, Los Osos, California.

The applicant requests a permit to take (harass by survey) the Morro shoulderband snail (Helminthoglypta walkeriana) in conjunction with surveys throughout the range of the species in California for the purpose of enhancing its survival.

We solicit public review and comment on each of these recovery permit applications.

Dated: October 2, 2003.
David J. Wesley,
Deputy Regional Director, Region 1, U.S. Fish and Wildlife Service.

[FR Doc. 03-25580 Filed 10-8-03; 8:45 am]

BILLING CODE 4310-55-P